DEPARTMENT OF TRANSPORTATION

Federal Aviation Administration

Notice of Intent To Request Revision From the Office of Management and Budget of a Currently Approved Information Collection Activity, Request for Comments; Airports Grants Program; Supplementary Notice

AGENCY: Federal Aviation Administration (FAA), DOT.

ACTION: Notice and request for comments.

SUMMARY: The FAA invites public comments about our intention to request the Office of Management and Budget (OMB) to approve a current information collection. This request is a change to FAA Form 5100-127, Operating and Financial Summary, where we will now collect limited statistical information on airport operations. This new information will add 10 lines to the Form and 1 hour to the Form's preparation time. Large, medium, and small hub commercial service airports will be asked to provide this information. A copy of the modified Form is available for public inspection at FAA Docket-2009-0257. This notice is supplementary to the notice of this Airport Grants Program revision published in the Federal Register on February 3, 2009 [74 FR 5968]. Additionally, since that notice of revision, the burden for this collection has increased due to new requirements imposed by the American Recovery and Reimbursement Act of 2009 (ARRA). A letter of public notification of this emergency increase was published in the Federal Register on April 10, 2009 [74 FR 16439].

DATES: Please submit comments by June 22, 2009.

FOR FURTHER INFORMATION CONTACT: Carla Mauney on (202) 267-9895, or by e-mail at: Carla.Mauney@faa.gov.

SUPPLEMENTARY INFORMATION:

Federal Aviation Administration (FAA)

Title: Airports Grants Program Including ARRA Requirements.

Type of Request: Revision of an approved collection.

OMB Control Number: 2120-0569.

Forms(s): Forms 5100-100, 5100-101, 5100-108, 5100-126, 5100-127, 5370-1.

Affected Public: A total of 1,950 Respondents.

Frequency: The information is collected on occasion.

Estimated Average Burden per Response: Approximately 9 hours per response.

Estimated Annual Burden Hours: An estimated 86,379 hours annually.

Abstract: The FAA collects information from airport sponsors and planning agencies in order to administer the Airports Grants Program. Data is used to determine eligibility, ensure proper use of Federal Funds, and ensure project accomplishments.

ADDRESSES: You may send comments by any of the following methods: Federal eRulemaking Portal: Go to http://www.regulations.gov. Follow the instructions for submitting comments.

Fax: (202) 493-2251.

Mail: U.S. Department of Transportation, Docket Operations, M-30, West Building Ground Floor, Room W12-140, 1200 New Jersey Avenue, SE., Washington, DC 20590.

Hand Delivery: U.S. Department of Transportation, Docket Operations, M-30, West Building Ground Floor. Room W12-140, 1200 New Jersey Avenue, SE., Washington, DC 20590, between 9 a.m. and 5 p.m., Monday through Friday, except Federal holidays.

Examining the Docket: You may examine the docket on the Internet at http://www.regulations.gov; or in person at the Docket Management Facility between 9 a.m. and 5 p.m., Monday through Friday, except Federal holidays. The street address for the Docket Office (telephone (800) 647-5527) is in the ADDRESSES section. Comments will be available in the docket shortly after receipt.

Comments are invited on: Whether the proposed collection of information is necessary for the proper performance of the functions of the Department, including whether the information will have practical utility; the accuracy of the Department's estimates of the burden of the proposed information collection; ways to enhance the quality, utility and clarity of the information to be collected; and ways to minimize the burden of the collection of information on respondents, including the use of automated collection techniques or other forms of information technology.

Issued in Washington, DC, on April 15, 2009.
Carla Mauney,
FAA Information Collection Clearance Officer, IT Enterprises Business Services Division, AES-200.

[FR Doc. E9-9207 Filed 4-22-09; 8:45 am]

BILLING CODE 4910-13-M